DEPARTMENT OF HEALTH AND HUMAN SERVICES

Centers for Medicare & Medicaid Services

42 CFR Parts 412 and 413

[CMS-1470-P]

RIN 0938-AL89

Medicare Program; Proposed Changes to the Hospital Inpatient Prospective Payment Systems and Fiscal Year 2004 Rates

Correction

In proposed rule document 03-11966 beginning on page 27154 in the issue of Monday, May 19, 2003, make the following correction:

On page 27154, in the first column, under DATES, in the last line “July 18, 2003” should read “July 15, 2003”.

[FR Doc. C3-11966 Filed 6-3-03; 8:45 am]

BILLING CODE 1505-01-D

DEPARTMENT OF TRANSPORTATION

Federal Aviation Administration

14 CFR Part 71

[Docket No. FAA-2003-15077; Airspace Docket No. 03-ACE-45]

Modification of Class E Airspace; Pocahontas, IA

Correction

In rule document 03-13047 beginning on page 28121 in the issue of Friday, May 23, 2003, make the following corrections:

1. On page 28121, in the second column, in the first paragraph, in the second line, after the word “revealed” add “discrepancies in the Pocahontas Municipal Airport airport reference point used in the legal”.

2. On the same page, in the same column, under the SUPPLEMENTARY INFORMATION heading, in the 11th line, after the word “revised” add “Pocahontas Municipal Airport airport reference point and brings the legal description of the”.

[FR Doc. C3-13047 Filed 6-3-03; 8:45 am]

BILLING CODE 1505-01-D

DEPARTMENT OF TRANSPORTATION

Federal Aviation Administration

14 CFR Part 71

[Docket No. FAA-2003-15078; Airspace Docket No. 03-ACE-46]

Modification of Class E Airspace; Red Oak, IA

Correction

In rule document 03-13045 beginning on page 28123 in the issue of Friday, May 23, 2003, make the following correction:

On page 28123, in the third column, under the SUMMARY heading, in the seventh line, after the word “area.” add the sentence “This action corrects the discrepancies by modifying the Red Oak, IA Class E airspace area.”.

[FR Doc. C3-13045 Filed 6-3-03; 8:45 am]

BILLING CODE 1505-01-D